FEDERAL COMMUNICATIONS COMMISSION

47 CFR Part 73

[DA 01-1999; MM Docket No. 00-20; RM-9733]

Radio Broadcasting Services; Paris and Mount Pleasant, TX

AGENCY: Federal Communications Commission.

ACTION: Proposed Rule Making; Withdrawal.

SUMMARY: This document dismisses a petition for rule making filed by Carephil Communications, Inc. requesting the reallotment of Channel 270C2 from Paris, Texas, to Mount Pleasant, Texas, and modification of the license for Station KBUS(FM) to specify Mount Pleasant as the community of license. See 65 FR 7817, February 16, 2000. Carephil Communications, Inc. withdrew its interest in the reallotment of Channel 270C2 from Paris, Texas, to Mount Pleasant, Texas. With this action, this proceeding is terminated.

FOR FURTHER INFORMATION CONTACT: Kathleen Scheuerle, Mass Media Bureau, (202) 418-2180

SUPPLEMENTARY INFORMATION: This is a summary of the Commission's Report and Order, MM Docket No. 00-20, adopted August 15, 2001, and released August 24, 2001. The full text of this Commission decision is available for inspection and copying during normal business hours in the Commission's Reference Center, 445 Twelfth Street, SW., Washington, DC. The complete text of this decision may also be purchased from the Commission's copy contractors, International Transcription Services, Inc., 1231 20th Street, NW., Washington, DC. 20036, (202) 857-3800, facsimile (202) 857-3805.

Federal Communications Commission.
John A. Karousos,
Chief, Allocations Branch, Policy and Rules Division, Mass Media Bureau.

[FR Doc. 01-22206 Filed 9-4-01; 8:45 am]

BILLING CODE 6712-01-P